DEPARTMENT OF THE INTERIOR

Bureau of Land Management

[LLCON04000 L16100000.DT0000-17X]

Notice of Availability of the Record of Decision for the Roan Plateau Planning Area Resource Management Plan Amendment and Final Supplemental Environmental Impact Statement, Colorado

AGENCY: Bureau of Land Management, Interior.

ACTION: Notice.

SUMMARY: The Bureau of Land Management (BLM) announces the availability of the Record of Decision (ROD) for the Approved Resource Management Plan (RMP) Amendment for the Roan Plateau planning area in Garfield and Rio Blanco Counties, Colorado. The BLM Director signed the ROD on November 16, 2016, which constitutes the final decision of the BLM and makes the Approved RMP effective immediately.

ADDRESSES: Copies of the ROD/Approved RMP Amendment are available upon request at the BLM Colorado River Valley Field Office, 2300 River Frontage Road, Silt, CO 81652; at the BLM White River Field Office, 220 East Market Street, Meeker, CO 81641; or via the Internet at https://eplanning.blm.gov/epl-front-office/eplanning/nepa/nepa_register.do.

FOR FURTHER INFORMATION CONTACT: Greg Larson, Project Manager, at 970-876-9000; Colorado River Valley Field Office (see address above), or glarson@blm.gov. Persons who use a telecommunications device for the deaf (TDD) may call the Federal Relay Service at 1-800-877-8339 to contact the above individual during normal business hours. The Service is available 24 hours a day, 7 days a week, to leave a message or question with the above individual. You will receive a reply during normal business hours.

SUPPLEMENTARY INFORMATION: The planning area, which is in west-central Colorado, includes approximately 73,602 acres of land (Federal surface, Federal mineral estate, or both). It is located primarily in Garfield County with a small portion in southern Rio Blanco County. The Roan Plateau RMP Amendment amends the Glenwood Springs and White River RMPs to address resource management decisions within the planning area. The BLM prepared the Roan Plateau Proposed RMP Amendment/Final Supplemental Environmental Impact Statement (EIS) to evaluate a range of management decisions for resources, resource uses, and special designations within the planning area, and to respond to a June 22, 2012, ruling by the United States District Court for the District of Colorado remanding the 2007 Roan Plateau RMP Amendment. The Court set aside the 2007 Roan Plateau RMP Amendment and remanded the matter to the BLM for further action in accordance with the Court's decision.

In particular, the Court found that the Final EIS supporting the 2007 Roan Plateau RMP Amendment was deficient insofar as it: (i) Failed to sufficiently address the “Community Alternative” that various local governments, environmental organizations and individual members of the public recommended; (ii) Failed to sufficiently address the cumulative air quality impacts of the 2007 RMP Amendment in conjunction with anticipated oil and gas development on private lands outside the Roan Plateau planning area; and (iii) Failed to adequately address the issue of potential ozone impacts from proposed oil and gas development. Based on the Court's ruling and new information available since the BLM developed the 2007 Final EIS, the BLM determined that a new RMP Amendment and supplemental analysis under NEPA were warranted.

Additionally, the parties involved in the litigation reached a settlement agreement in November 2014. In the settlement agreement, the BLM agreed to consider an alternative that included closing certain lands on top of the Roan Plateau to new oil and gas leasing while keeping other lands in the planning area open for leasing, exploration, and development subject to certain conditions. As part of the settlement agreement, the BLM cancelled 17 leases held by Bill Barrett Corporation.

The Roan Plateau Approved RMP Amendment adopts the Settlement Alternative that was identified in the November 2014 settlement agreement. The Approved RMP Amendment contains management actions to meet desired resource conditions for fluid minerals management; social and economic impacts; riparian habitat; recreation; and air, water and ecological resources. The Approved RMP Amendment also addresses decisions regarding Wild and Scenic Rivers, Areas of Critical Environmental Concern, and lands with wilderness characteristics. Greater Sage-Grouse decisions in the Approved RMP Amendment are consistent with the Northwest Colorado Greater Sage-Grouse RMP Amendment ROD.

The BLM's Preferred Alternative (the Settlement Alternative) for the Draft RMP Amendment/Draft Supplemental EIS was carried forward into the Proposed RMP Amendment/Final Supplemental EIS published on July 1, 2016. The BLM did not receive any protests on the Proposed RMP Amendment/Final Supplemental EIS and the Govenor did not identify any inconsistencies with State or local plans, policies or programs during the Governor's consistency review.

As a result, the BLM made only minor editorial modifications in preparing the Approved RMP Amendment. These modifications provide further clarification of some of the decisions, and are discussed in Section 1.3 of the Approved RMP Amendment/ROD. The Approved RMP Amendment/ROD also includes certain implementation decisions that are immediately appealable under 43 CFR part 4. These decisions involve the desgination of the following individual travel routes—TRR-IMP-01, TRR-IMP-02, and TRR-IMP-03.

Any party adversely affected by these route designation decisions may appeal within 30 days of publication of this Notice of Availability pursuant to 43 CFR, part 4, subpart E. The appeal should state the specific route(s), as identified in Chapter 2 of the Approved RMP Amendment/ROD, on which the decision is being appealed. The appeal must be filed with the Colorado River Valley Field Manager at the above listed address. Please consult the appropriate regulations (43 CFR, part 4, subpart E) for further appeal requirements.

Authority: 40 CFR 1506.6.

Ruth Welch,
BLM Colorado State Director.

[FR Doc. 2016-28519 Filed 11-25-16; 8:45 am]

BILLING CODE 4310-JB-P